DEPARTMENT OF TRANSPORTATION

Federal Aviation Administration

Notice of Intent To Rule on Request To Release Airport Property at the Ankeny Regional Airport, Ankeny, IA

AGENCY: Federal Aviation Administration, (FAA), DOT.

ACTION: Notice of request to release airport property.

SUMMARY: The FAA proposes to rule and invites public comment on the release of land at the Ankeny Regional Airport under the provisions of section 125 of the Wendell H. Ford Aviation Investment Reform Act for the 21st Century (AIR 21).

DATES: Comments must be received on or before March 21, 2003.

ADDRESSES: Comments on this application may be mailed or delivered to the FAA at the following address: Federal Aviation Administration, Central Region, Airports Division, 901 Locust, Kansas City, Missouri 64106-2325.

In addition, one copy of any comments submitted to the FAA must be mailed or delivered to Mr. Dave L. Joens, P.E.& P.L.S. at the following address: Polk County Aviation Authority, 5885 NE., 14th Street, Des Moines, IA 50313.

FOR FURTHER INFORMATION CONTACT: Nicoletta Oliver, Airports Compliance Specialist, FAA, Central Region, 901 Locust, Kansas City, MO 64106-2325, (816) 329-2642.

The request to release property may be reviewed in person at this same location.

SUPPLEMENTARY INFORMATION: The FAA proposes to rule and invites public comment on the request to release property at the Ankeny Regional Airport under the provisions of AIR 21.

On February 6, 2003, the FAA determined that the request to release property at the Ankeny Regional Airport submitted by the Polk County Aviation Authority, met the procedural requirements of the Federal Aviation Administration. The FAA will approve or disapprove the request, in whole or in part, no later than May 30, 2003.

The following is a brief overview of the request.

The Polk County Airport Authority requests the release of approximately 4.91 acres of airport property. The purpose of this release is to transfer ownership to the Iowa Department of Transportation (IDOT) for an interchange project located south of the airport property. The land is currently not being used for aeronautical purposes. Any person may inspect the request in person at the FAA office listed above under FOR FURTHER INFORMATION CONTACT.

In addition, any person may, upon request, inspect the application, notice and other documents germane to the request in person at the Polk County Airport Authority, Des Moines, Iowa.

Issued in Kansas City, Missouri, on February 6, 2003.
George A. Hendon,
Manager, Airports Division, Central Region.

[FR Doc. 03-3972 Filed 2-18-03; 8:45 am]

BILLING CODE 4910-B-M